ENVIRONMENTAL PROTECTION AGENCY

[FRL-7018-9]

Agency Information Collection Activities: Proposed Collection; Comment Request; Clean Water Needs Survey, EPA ICR No. 0318.09, OMB Control No. 2040-0050, Expiration Date December 31, 2001

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Clean Water Needs Survey, EPA ICR No. 0318.09, OMB Control No. 2040-0050, expiration date December 31, 2001.

Before submitting the ICR to OMB for review and approval, EPA is soliciting comments on specific aspects of the proposed information collection as described below.

DATES: Comments must be submitted on or before September 25, 2001.

ADDRESSES: Send comments, referencing EPA ICR No. 0318.09, OMB Control No. 2040-0050 to the following address: Sandra Perrin; U.S. EPA; Office of Water; Office of Wastewater Management; Municipal Support Division; Municipal Technology Branch; (Mail Code 4204M); 1200 Pennsylvania Avenue, NW; Washington, DC 20460.

FOR FURTHER INFORMATION CONTACT: For a copy of the ICR contact Sandra Perrin; U.S. EPA; Office of Wastewater Management; Municipal Technology Branch (Mail Code 4204M); 1200 Pennsylvania Avenue, NW; Washington, DC 20460; (202) 564-0668; Fax (202) 501-2397; E-Mail; perrin.sandra@epa.gov or download off of the Internet at http://www.epa.gov/icr and refer to EPA ICR 0318.09. For technical questions about the ICR please call Sandra Perrin; in the Office of Water; (202) 564-0668.

SUPPLEMENTARY INFORMATION: Affected entities: Entities potentially affected by this action are the States, District of Columbia, Puerto Rico, Virgin Islands and Pacific Territories.

Title: Clean Water Needs Survey (OMB Control No. 2040-0050; EPA ICR No. 0318.09; expiring 12/31/2001. This is a renewal of a currently approved collection.

Abstract: The Clean Water Needs Survey is required by Sections 205(a) and 516(b)(1) of the Clean Water Act. It is a periodic inventory of existing and proposed publicly owned wastewater treatment works (POTWS) and other water pollution control facilities in the United States, as well as an estimate of how many POTWs are needed to be built. The Clean Water Needs Survey is a voluntary joint effort of EPA and the States. The Survey records cost and technical data associated with all POTWs and other water pollution control facilities, existing and proposed, in the United States. The States provide this information to EPA. No confidential information is used, nor is sensitive information protected from release under the Public Information Act, used. EPA achieves national consistency in the final results through the application of uniform guidelines and validation techniques. An agency may not conduct or sponsor, and a person is not required to respond to, a collection of information unless it displays a currently valid OMB control number. The “Clean Water Needs Surveys” OMB Control No. 2040-0050, the EPA ICR No. 0318.09.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including the use of appropriate automated electronic, mechanical, or other technological collection techniques or other forms of information technology, e.g., permitting electronic submission of responses.

Burden Statement: The annual public reporting and record keeping burden for this collection of information is estimated to average 11,011 hours.

The frequency of response is annual with an estimated number of 56 respondents. Burden means the total time, effort, or financial resources expended by persons to generate, maintain, retain or disclose, or provide information to or for a Federal Agency. This includes the time needed to review instructions; develop, acquire, install, and utilize technology and systems for the purposes of collecting, validating, and verifying information; adjust the existing data to comply with any previously applicable instructions and requirements; train personnel to be able to respond to a collection of information; and search data sources, complete and review the collection of information, and transmit or otherwise disclose the information.

Dated: July 20, 2001
Michael B. Cook,
Director, Office of Wastewater Management.

[FR Doc. 01-18824 Filed 7-26-01; 8:45 am]

BILLING CODE 6560-50-P